COMMITTEE FOR PURCHASE FROM PEOPLE WHO ARE BLIND OR SEVERELY DISABLED

Procurement List, Proposed Additions

AGENCY: Committee for Purchase From People Who Are Blind or Severely Disabled.

ACTION: Proposed Additions to the Procurement List.

SUMMARY: The Committee is proposing to add a product and services to the Procurement List that will be furnished by nonprofit agencies employing persons who are blind or have other severe disabilities.

Comments Must be Received on or Before: 10/15/2012.

ADDRESSES: Committee for Purchase From People Who Are Blind or Severely Disabled, Jefferson Plaza 2, Suite 10800, 1421 Jefferson Davis Highway, Arlington, Virginia, 22202-3259.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 8501-8506) in connection with the product and services proposed for addition to the Procurement List.

Comments on this certification are invited. Commenters should identify the statement(s) underlying the certification on which they are providing additional information.

End of Certification

The following product and services are proposed for addition to the Procurement List for production by the nonprofit agencies listed:

Product

NSN: 5120-00-NIB-0029—Digger, Posthole, Industrial Grade, 48″ Fiberglass Handle, Cushioned Grip

NPA: Keystone Vocational Services, Inc., Sharon, PA.

Contracting Activity: General Services Administration, Tools Acquisition Division I, Kansas City, MO.

COVERAGE: B-List for the Broad Government Requirement as aggregated by the General Services Administration.

Services

Service Type/Location: Custodial Service, Assistant Special Agent in Charge (ASAC), San Angelo Homeland Security Investigations, 5575 Stewart Lane, San Angelo, TX.

NPA: Enterprise Professional Services, Inc., Austin, TX.

Contracting Activity: Dept of Homeland Security, U.S. Immigration and Customs Enforcement, Mission Support Dallas, Dallas, TX.

Service Type/Location: Hospital Housekeeping, Raymond W. Bliss Army Health Center (RWBAHC), 2240 E Winrow Avenue, Ft Huachuca, AZ.

NPA: Enterprise Professional Services, Inc., Austin, TX.

Contracting Activity: Dept of the Army, W40M USA MEDCOM HCAA, Fort Sam Houston, TX.

Service Type/Location: Custodial Services, Customs and Border Protection, Checkpoint 802, S-2 Hwy, MM 56.1, Ocotillo, CA.

NPA: Imperial County Work Training Center, Inc., El Centro, CA.

Contracting Activity: U.S. Customs and Border Protection, Border Enforcement Contracting Division, Washington, DC.

Barry S. Lineback,
Director, Business Operations.

[FR Doc. 2012-22687 Filed 9-13-12; 8:45 am]

BILLING CODE 6353-01-P